DEPARTMENT OF COMMERCE

National Oceanic and Atmospheric Administration

[RTID 0648-XD298]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Wreckfish Advisory Group and Wreckfish Sub-Committee. See SUPPLEMENTARY INFORMATION for agenda items.

DATES: The Wreckfish Advisory Group meeting will be held September 19, 2023, from 9 a.m. until 5 p.m. EDT. The Wreckfish Sub-Committee meeting will be held September 20, 2023, from 9 a.m. until 12:30 p.m. EDT.

ADDRESSES:

Council address: South Atlantic Fishery Management Council, 4055 Faber Place Drive, Suite 201, N Charleston, SC 29405.

Meeting address: The meeting will be held at the Renaissance World Golf Village Resort, 500 South Legacy Trail, St. Augustine, FL 32092; phone: (904) 940-8000. The meeting will also be available via webinar. Registration is required. Webinar registration, an online public comment form, and briefing book materials will be available two weeks prior to the meeting at: https://safmc.net/workgroups/.

FOR FURTHER INFORMATION CONTACT: Christina Wiegand, Fishery Social Scientists, SAFMC; phone: (843) 571-4366 or toll free: (866) SAFMC-10; fax: (843) 769-4520; email: christina.wiegand@safmc.net.

SUPPLEMENTARY INFORMATION: The Wreckfish Advisory Group will discuss Amendment 48 to the Fishery Management Plan for the Snapper Grouper Fishery of the South Atlantic (Amendment 48) addressing modernization of the wreckfish individual transferable quota (ITQ) program, and discuss other business as needed. The Wreckfish Sub-Committee will discuss Amendment 48 and input received from the Wreckfish Advisory Group. Current actions under consideration in Amendment 48 include: sector allocations, electronic reporting, fishing season, ITQ participation and eligibility requirements, fishery monitoring requirements, and cost recovery.

Special Accommodations

These meetings are physically accessible to people with disabilities. Requests for auxiliary aid should be directed to the Council office (see ADDRESSES) 5 days prior to the meeting.

Note: The times and sequence specified in this agenda are subject to change.

Authority: 16 U.S.C. 1801 et seq.

Dated: August 28, 2023.
Rey Israel Marquez,
Acting Deputy Director, Office of Sustainable Fisheries, National Marine Fisheries Service.

[FR Doc. 2023-18854 Filed 8-30-23; 8:45 am]

BILLING CODE 3510-22-P